DEPARTMENT OF COMMERCE

National Oceanic and Atmospheric Administration

RIN 0648-XVOO1

Determination of Overfishing or an Overfished Condition

AGENCY: National Marine Fisheries Service (NMFS), National Oceanic and Atmospheric Administration (NOAA), Commerce.

ACTION: Notice.

SUMMARY: This action serves as a notice that NMFS, on behalf of the Secretary of Commerce (Secretary), has found that the northern subpopulation of Pacific sardine is now overfished. NMFS, on behalf of the Secretary, notifies the appropriate regional fishery management council (Council) whenever it determines that overfishing is occurring, a stock is in an overfished condition, or a stock is approaching an overfished condition.

FOR FURTHER INFORMATION CONTACT: Regina Spallone, (301) 427-8568.

SUPPLEMENTARY INFORMATION: Pursuant to section 304(e)(2) of the Magnuson-Stevens Fishery Conservation and Management Act (Magnuson-Stevens Act), 16 U.S.C. 1854(e)(2), NMFS, on behalf of the Secretary, must notify Councils, and publish in the Federal Register, whenever it determines that a stock or stock complex is subject to overfishing, overfished, or approaching an overfished condition.

NMFS has determined that the northern subpopulation of Pacific sardine is now overfished. The most recent assessment for Pacific sardine, finalized in 2019, using data through 2018 and estimating a stock size on July 1, 2019, indicates that the stock is overfished because the biomass is projected to be less than the minimum stock size threshold. NMFS has informed the Pacific Fishery Management Council that it must develop a rebuilding plan for this stock.

Authority: 16 U.S.C. 1854 et seq.

Dated: August 20, 2019.
Alan D. Risenhoover,
Director, Office of Sustainable Fisheries, National Marine Fisheries Service.

[FR Doc. 2019-18188 Filed 8-22-19; 8:45 am]

BILLING CODE 3510-22-P